DEPARTMENT OF THE INTERIOR

Fish and Wildlife Service

Endangered and Threatened Species Permit Applications

ACTION: Notice of Receipt of Applications.

SUMMARY: The following applicants have applied for a scientific research permit to conduct certain activities with endangered species pursuant to section 10(a)(1)(A) of the Endangered Species Act of 1973, as amended (16 U.S.C. 1531, et seq.).

Permit No. TE-040341

Applicant: William Charles Larsen, Round Rock, Texas

Applicant requests a permit for recovery purposes to conduct surveys for the Texas blind salamander (Typhlomolge rathbuni), Peck's Cave amphipod (Stybobromus) (=Stygonectes) pecki), and following karst cave invertebrate species: Tooth Cave spider (Neoleptoneta myopica), Bee Creek Cave harvestman (Texella reddelli), Bone Cave harvestman (Texella reyesi), Tooth Cave ground beetle (Rhadine persephone), Kretschmarr Cave mold beetle (Texamaurops reddelli), Coffin Cave mold beetle (Batrisodes texanus), Tooth Cave pseudoscorpion (Tartarocreagris texana), Helotes mold beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names. These activities will be conducted within Texas.

Permit No. TE-040342

Applicant: North Wind Environmental, Inc., Idaho Falls, Idaho

Applicant requests a permit to conduct presence/absence surveys for the black-footed ferret (Mustela nigripes), southwestern willow flycatcher (Empidonax traillii extimus), Colorado pikeminnow (Ptychocheilus lucius), and razorback sucker (Xyrauchen texanus) within Chaco Culture National Historic Park, New Mexico.

Permit No. TE-040345

Applicant: U.S. Bureau of Reclamation, Yuma Area Office, Yuma Arizona

Applicant requests a permit to conduct presence/absence surveys for the southwestern willow flycatcher (Empidonax traillii extimus) and Yuma clapper rail (Rallus longirostris yumanensis) in Arizona.

Permit No. TE-014168

Applicant: Peter Sprouse, Austin, Texas

Applicant requests a permit to conduct presence/absence surveys for the following karst cave invertebrates: Helotes mold beetle (Batrisodes venyivi), Robber Baron Cave harvestman (Texella cokendolpheri), Robber Baron Cave spider (Cicurina baronia), Madla's cave spider (Cicurina madla), vesper cave spider (Cincurina vespera), Government Canyon cave spider (Neoleptoneta microps), as well as another cave spider (Cicurina venii) and two cave beetles (Rhadine exilis and Rhadine infernalis) that do not have common names. These activities will be conducted within Texas.

Permit No. TE-820022

Applicant: PBS&J, Austin, Texas

Applicant requests a permit to conduct presence/absence surveys for interior least tern (Sterna antillarum athalassos), Barton Springs salamander (Eurycea sosorum), Helotes mold beetle (Batrisodes venyivi), Robber Baron Cave harvestman (Texella cokendolpheri), Robber Baron Cave spider (Cicurina baronia), Madla's cave spider (Cicurina madla), vesper cave spider (Cincurina vespera), Government Canyon cave spider (Neoleptoneta microps), Bracken Bat Cave meshweaver (Cicurina venii) and two cave beetles (Rhadine exilis and Rhadine infernalis) that do not have common names. All activities will take place in Texas.

DATES: Written comments on these permit applications must be received on or before June 14, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Bryan Arroyo,
Assistant Regional Director, Ecological Services, Region 2, Albuquerque, New Mexico.

[FR Doc. 01-12172 Filed 5-14-01; 8:45 am]

BILLING CODE 4310-55-P